DEPARTMENT OF DEFENSE

Department of the Navy

[Docket ID USN-2012-0008]

Privacy Act of 1974; System of Records

AGENCY: Department of the Navy, DoD.

ACTION: Notice to add a new system of records.

SUMMARY: The Department of the Navy proposes to add a new system of records in its inventory of record systems subject to the Privacy Act of 1974 (5 U.S.C. 552a), as amended.

DATES: This proposed action will be effective on June 18, 2012 unless comments are received which result in a contrary determination.

ADDRESSES: You may submit comments, identified by docket number and title, by any of the following methods:

• Federal Rulemaking Portal: http://www.regulations.gov. Follow the instructions for submitting comments.

• Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Robin Patterson, Department of the Navy, DNS-36, 2000 Navy Pentagon, Washington, DC 20350-2000 or call at (202) 685-6545.

SUPPLEMENTARY INFORMATION: The Department of the Navy notices for systems of records subject to the Privacy Act of 1974 (5 U.S.C. 552a), as amended, have been published in the Federal Register and are available from the address in FOR FURTHER INFORMATION CONTACT. The proposed system report, as required by 5 U.S.C. 552a(r) of the Privacy Act of 1974, as amended, was submitted on May 14, 2012, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: May 15, 2012.
Aaron Siegel,
Alternate OSD Federal Register Liaison Officer, Department of Defense.

N01070-16

System name:

Naval Tactical Command Support System (NTCSS) Relational Administration (R-ADM).

System location:

United States Navy ships and submarines. Official mailing addresses are published in the Standard Navy Distribution List available as an appendix to the Navy's compilation of systems of records notices and may be obtained from the System Manager.

Categories of individuals covered by the system:

United States Navy commissioned and enlisted personnel.

Categories of records in the system:

Name, Social Security Number (SSN), gender, race/ethnicity, birth date, place of birth, home telephone number, personal email address, mailing/home address, religious preference, security clearance, spouse information, marital status, dependent child information (citizenship, gender, date of birth, address, phone number, email address), medical information, military records, and education information.

Authority for maintenance of the system:

5 U.S.C. 301, Departmental Regulations; 10 U.S.C. 5013, Secretary of the Navy; and E.O. 9397 (SSN), as amended.

Purpose(s):

Naval Tactical Command Support System is an information system for the management of supply, maintenance, and personnel administration for ships, submarines, aviation squadrons, and intermediate maintenance activities. The NTCSS Relational Administration (R-ADM) application serves as the afloat personnel management system.

Routine uses of records maintained in the system, including categories of users and the purposes of such uses:

In addition to those disclosures generally permitted under 5 U.S.C. 552a(b) of the Privacy Act of 1974, these records contained therein may specifically be disclosed outside the DON as a routine use pursuant to 5 U.S.C. 552a(b)(3) as follows:

The DoD `Blanket Routine Uses' set forth at the beginning of Department of the Navy's compilation of system of records notices apply to this system.

Policies and practices for storing, retrieving, accessing, retaining, and disposing of records in the system:

Storage:

Electronic storage media.

Retrievability:

Name and Social Security Number (SSN).

Safeguards:

Records are maintained in secure, limited access areas. Access is limited to those individuals who require the records to perform their official assigned duties, or to review records that personally pertain to them. System is protected and controlled using encryption and passwords.

Retention and disposal:

Retain on board. Destroy when personnel are transferred, separated, or when no longer needed, whichever is earlier.

System manager and address:

Program Manager, PEO C4I/PMW 150, 4301 Pacific Hwy, OT-1, San Diego, CA 92110-3127.

Notification Procedure:

Individuals seeking to determine whether information about themselves is contained in this system should contact their unit's Admin Office or their Division Officer.

Record Access Procedures:

Individuals seeking access to information about themselves contained in this system should contact their unit's Admin Office or their Division Officer.

Contesting Record Procedures:

The Navy's rules for accessing records, and for contesting contents and appealing initial agency determinations are published in Secretary of the Navy Instruction 5211.5; 32 CFR part 701; or may be obtained from the system manager.

Record Source Categories:

Individual and Navy Training Management & Planning System.

Exemptions Claimed for the system:

None.

[FR Doc. 2012-12045 Filed 5-17-12; 8:45 am]

BILLING CODE 5001-06-P